DEPARTMENT OF COMMERCE

National Oceanic and Atmospheric Administration

[I.D. 012203A]

Proposed Information Collection; Comment Request; Northeast Region Vessel Monitoring and Communications

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 28, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Hannah Goodale at 508-281-9101, or to Hannah.F.Goodale@noaa.gov.

SUPPLEMENTARY INFORMATION:

I. Abstract

Owners or operators of vessels that have caught 500 metric tons of herring in the past year, or intend to catch 500 metric tons in the current year, must equip their vessels with an approved Vessel Monitoring System (VMS). The VMS units automatically report the vessel's position at least once per hour when the vessel is underway. Vessel owners must submit proof that the VMS has been installed. Herring carriers may be exempted from this requirement by obtaining a letter of authorization from NOAA.

II. Method of Collection

Position reports are automated and automatic. Proof of installation is mailed to NOAA. A letter of authorization can be requested by phone.

III. Data

OMB Number: 0648-0404.

Form Number: None.

Type of Review: Regular submission.

Affected Public: Business or other for-profit organizations, individuals or households.

Estimated Number of Respondents: 150.

Estimated Time Per Response: 1 hour to install a VMS; 2 minutes for submission of proof of installation; 5 seconds for an automated position report from the VMS or transponder system (10 minutes if an Inmarsat communication unit is used to transmit the data); and 2 minutes for a request for a letter of authorization exemption.

Estimated Total Annual Burden Hours: 816.

Estimated Total Annual Cost to Public: $298,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 17, 2003.
Gwellnar Banks,
Management Analyst, Office of the Chief Information Officer.

[FR Doc. 03-1787 Filed 1-24-03; 8:45 am]

BILLING CODE 3510-22-S